DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on June 20, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On June 20, 2025, OFAC published the following revised information for the entries on the SDN List for the following persons blocked under the relevant sanctions authorities listed below.

BILLING CODE 4810-AL-P

BILLING CODE 4810-AL-C

On June 20, 2025, OFAC also determined that circumstances no longer warrant the inclusion of the following person on the SDN List and their property and interests in property are no longer blocked pursuant to E.O. 13224:

Entity

1. SAKAN GENERAL TRADING (a.k.a. ROYAL CREDIT GENERAL TRADING; a.k.a. SAKAN GENERAL TRADING, LLC), 14th Floor, Office 1401, Al Owais Business Tower, 53, 24th Street, Al Sabkha-115, Deira, Dubai, United Arab Emirates; Additional Sanctions Information—Subject to Secondary Sanctions; Secondary sanctions risk: section 1(b) of Executive Order 13224, as amended by Executive Order 13886; License 611462 (United Arab Emirates) [SDGT] [IFSR] (Linked To: ANSAR EXCHANGE).

Lisa M. Palluconi,
Acting Director, Office of Foreign Assets Control.

[FR Doc. 2025-11895 Filed 6-26-25; 8:45 am]

BILLING CODE 4810-AL-P